INTERNATIONAL TRADE COMMISSION

[Investigation No. 731-TA-1598 (Final)]

Gas Powered Pressure Washers From Vietnam

Determinations

On the basis of the record ¹ developed in the subject investigation, the United States International Trade Commission (“Commission”) determines, pursuant to the Tariff Act of 1930 (“the Act”), that an industry in the United States is materially injured by reason of imports of gas powered pressure washers from Vietnam, provided for in subheadings 8424.30.90 and 8424.90.90 of the Harmonized Tariff Schedule of the United States, that have been found by the U.S. Department of Commerce (“Commerce”) to be sold in the United States at less than fair value (“LTFV”).2 3 4

¹ The record is defined in § 207.2(f) of the Commission's Rules of Practice and Procedure (19 CFR 207.2(f)).

² 88 FR 59503 (August 29, 2023).

³ Commissioner Randolph J. Stayin not participating.

⁴ The Commission also finds that imports subject to Commerce's affirmative critical circumstances determination are not likely to undermine seriously the remedial effect of the antidumping duty order on Vietnam.

Background

The Commission instituted this investigation effective December 30, 2022, following receipt of a petitions filed with the Commission and Commerce by FNA Group, Inc., Pleasant Prairie, Wisconsin. The Commission scheduled the final phase of the investigation following notification of a preliminary determination by Commerce that imports of gas powered pressure washers from Vietnam were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register on June 22, 2023 (88 FR 40865). The Commission conducted its hearing on August 24, 2023. All persons who requested the opportunity were permitted to participate.

The Commission made this determination pursuant to § 735(b) of the Act (19 U.S.C. 1673d(b)). It completed and filed its determination in this investigation on October 13, 2023. The views of the Commission are contained in USITC Publication 5465 (October 2023), entitled Gas Powered Pressure Washers from Vietnam: Investigation No. 731-TA-1598 (Final).

By order of the Commission.
Issued: October 13, 2023.
Lisa Barton,
Secretary to the Commission.

[FR Doc. 2023-23008 Filed 10-17-23; 8:45 am]

BILLING CODE 7020-02-P